DEPARTMENT OF JUSTICE

Notice of Lodging of Consent Decree Under the Comprehensive Environmental Response, Compensation and Liability Act

Under 28 CFR 50.7, notice is hereby given that on July 28, 2011, a proposed consent decree with defendant Wilko Paint, Inc., was lodged in the civil action entitled United States v. Wilko Paint, Inc., No. 11-cv-01205-EFM-GLR, in the United States District Court for the District of Kansas.

In this action the United States is seeking to recover costs under the Comprehensive Environmental Response, Compensation and Liability Act (“CERCLA”), which were incurred in response to releases of hazardous substances at the 57th and North Broadway Superfund Site (“the Site”), in Wichita, Kansas. The proposed consent decree will resolve the United States' claim against the defendant under Section 107 of CERCLA, 42 U.S.C. 9607, for the Site. Under the terms of the proposed consent decree, defendant Wilko Paint will make a cash payment of $350,000 to the United States, which is based on Wilko's ability to pay a financial judgment against it, and will give the United States a share of any future insurance recovery related to the claim. In return, the United States will grant the defendant a covenant not to sue under CERCLA with respect to the Site. For thirty (30) days after the date of this publication, the Department of Justice will receive comments relating to the proposed consent decree. Comments may be addressed to the Assistant Attorney General, Environment and Natural Resources Division, P.O. Box 7611, U.S. Department of Justice, Washington, DC 20044-7611, or submitted by email to pubcomment-ees.enrd@usdoj.gov, and should refer to the proposed consent decree in United States v. Wilko Paint, Inc. (D. Kan.), D.J. Ref. 90-11-3-1737/2.

The proposed consent decree may be examined at the office of the United States Attorney, 1200 Epic Center, 301 N. Main Street, Wichita, Kansas 67212. During the public comment period, the Consent Decree may be examined on the Justice Department's Web site at http://www.usdoj.gov/enrd/Consent_Decrees.html. A copy of the proposed consent decree may be obtained by mailing a request to the Consent Decree Library, P.O. Box 7611, U.S. Department of Justice, Washington, DC 20044-7611. When requesting a copy by mail, please enclose a check payable to the U.S. Treasury in the amount of $6.50 (25 cents per page reproduction cost). A copy may also be obtained by e-mailing or faxing a request to Tonia Fleetwood, tonia.fleetwood@usdoj.gov, fax number (202) 514-0097, phone confirmation number (202) 514-1547, and mailing a check to the Consent Decree Library at the stated address.

Robert E. Maher, Jr.,
Assistant Section Chief, Environmental Enforcement Section, Environment and Natural Resources Division.

[FR Doc. 2011-19589 Filed 8-2-11; 8:45 am]

BILLING CODE 4410-15-P